DEPARTMENT OF ENERGY

Federal Energy Regulatory Commission

Combined Notice of Filings #1

Take notice that the Commission received the following exempt wholesale generator filings:

Docket Numbers: EG11-64-000.

Applicants: Alta Wind III Owner Lessor A.

Description: Notice of Self-Certification of Exempt Wholesale Generator Status of Alta Wind III Owner Lessor A.

Filed Date: 03/03/2011.

Accession Number: 20110303-5109.

Comment Date: 5 p.m. Eastern Time on Thursday, March 24, 2011.

Docket Numbers: EG11-65-000.

Applicants: Alta Wind III Owner Lessor B.

Description: Notice of Self-Certification of Exempt Wholesale Generator Status of Alta Wind III Owner Lessor B.

Filed Date: 03/03/2011.

Accession Number: 20110303-5110.

Comment Date: 5 p.m. Eastern Time on Thursday, March 24, 2011.

Docket Numbers: EG11-66-000.

Applicants: Alta Wind III Owner Lessor C.

Description: Notice of Self-Certification of Exempt Wholesale Generator Status of Alta Wind III Owner Lessor C.

Filed Date: 03/03/2011.

Accession Number: 20110303-5111.

Comment Date: 5 p.m. Eastern Time on Thursday, March 24, 2011.

Docket Numbers: EG11-67-000.

Applicants: Alta Wind III Owner Lessor D.

Description: Notice of Self-Certification of Exempt Wholesale Generator Status of Alta Wind III Owner Lessor D.

Filed Date: 03/03/2011.

Accession Number: 20110303-5112.

Comment Date: 5 p.m. Eastern Time on Thursday, March 24, 2011.

Take notice that the Commission received the following electric rate filings:

Docket Numbers: ER11-39-001.

Applicants: Flat Water Wind Farm, LLC.

Description: Supplement to Notice of Non-Material Change in Status of Flat Water Wind Farm, LLC.

Filed Date: 03/03/2011.

Accession Number: 20110303-5137.

Comment Date: 5 p.m. Eastern Time on Thursday, March 24, 2011.

Docket Numbers: ER98-4109-007; ER03-427-009; ER99-3426-013; ER05-440-005; ER03-175-011.

Applicants: San Diego Gas & Electric Company, Sempra Energy, Inc.

Description: San Diego Gas & Electric Company Supplement to Notice of Category 1 Status for Northwest Region.

Filed Date: 03/03/2011.

Accession Number: 20110303-5070.

Comment Date: 5 p.m. Eastern Time on Thursday, March 24, 2011.

Docket Numbers: ER98-4109-008; ER09-1655-003; ER09-1453-004; ER03-427-010; ER04-170-012; ER99-3426-014; ER08-100-013; ER01-1178-008; ER03-175-012.

Applicants: Sempra Energy Resources.

Description: Supplement to Notice of Non-Material Change in Status.

Filed Date: 03/03/2011.

Accession Number: 20110303-5145.

Comment Date: 5 p.m. Eastern Time on Thursday, March 24, 2011.

Docket Numbers: ER11-2128-004.

Applicants: California Independent System Operator Corporation.

Description: Filing of the California ISO in Compliance with FERC Order.

Filed Date: 03/02/2011.

Accession Number: 20110302-5247.

Comment Date: 5 p.m. Eastern Time on Wednesday, March 23, 2011.

Docket Numbers: ER11-2458-001.

Applicants: Southern California Edison Company.

Description: Southern California Edison Company submits tariff filing per 35: SCE Resubmits BPII Settlement LGIA SA No. 235 to be effective 5/29/2010.

Filed Date: 03/03/2011.

Accession Number: 20110303-5086.

Comment Date: 5 p.m. Eastern Time on Thursday, March 24, 2011.

Docket Numbers: ER11-2753-002.

Applicants: Cedar Point Wind, LLC.

Description: Cedar Point Wind, LLC submits tariff filing per 35.17(b): Supplement to Revised Application for MBR and MBR Tariffs to be effective 4/1/2011.

Filed Date: 03/03/2011.

Accession Number: 20110303-5117.

Comment Date: 5 p.m. Eastern Time on Thursday, March 24, 2011.

Docket Numbers: ER11-3010-000.

Applicants: Tampa Electric Company.

Description: Tampa Electric Company Notice of Cancellation of Rate Schedules 46, 47, and 48.

Filed Date: 03/02/2011.

Accession Number: 20110302-5246.

Comment Date: 5 p.m. Eastern Time on Wednesday, March 23, 2011.

Docket Numbers: ER11-3011-000.

Applicants: Florida Power Corporation.

Description: Florida Power Corporation submits tariff filing per 35.13(a)(2)(iii): Rate Schedule No. 217 of Florida Power Corporation to be effective 3/1/2011.

Filed Date: 03/03/2011.

Accession Number: 20110303-5082.

Comment Date: 5 p.m. Eastern Time on Thursday, March 24, 2011.

Docket Numbers: ER11-3012-000.

Applicants: Southern California Edison Company.

Description: Southern California Edison Company submits tariff filing per 35.13(a)(2)(iii): SCE Resubmits BPII Settlement Tie-Line RS 481 to be effective 6/3/2010.

Filed Date: 03/03/2011.

Accession Number: 20110303-5087.

Comment Date: 5 p.m. Eastern Time on Thursday, March 24, 2011.

Docket Numbers: ER11-3013-000.

Applicants: Coolidge Power LLC.

Description: Coolidge Power LLC submits tariff filing per 35.12: Coolidge Power LLC Market Based Rate Schedule 1.0 to be effective 4/29/2011.

Filed Date: 03/03/2011.

Accession Number: 20110303-5118.

Comment Date: 5 p.m. Eastern Time on Thursday, March 24, 2011.

Docket Numbers: ER11-3014-000.

Applicants: Southern California Edison Company.

Description: Southern California Edison Company submits tariff filing per 35.15: Notice of Cancellation of Engineering Study Letter Agreement Blythe Solar Proj to be effective 12/9/2010.

Filed Date: 03/03/2011.

Accession Number: 20110303-5126.

Comment Date: 5 p.m. Eastern Time on Thursday, March 24, 2011.

Docket Numbers: ER11-3016-000.

Applicants: Southern California Edison Company.

Description: Southern California Edison Company Submits Cancellation of Letter Agreement with Solar Millennium for the Colorado River Substation Siting Study.

Filed Date: 03/03/2011.

Accession Number: 20110303-5138.

Comment Date: 5 p.m. Eastern Time on Thursday, March 24, 2011.

Docket Numbers: ER11-3017-000.

Applicants: Hudson Transmission Partners, LLC.

Description: Application of Hudson Transmission Partners, LLC under for Authority to Sell Transmission Rights at Negotiated Rates and Request for Expedited Action.

Filed Date: 03/03/2011.

Accession Number: 20110303-5146.

Comment Date: 5 p.m. Eastern Time on Thursday, March 24, 2011.

Take notice that the Commission received the following electric securities filings:

Docket Numbers: ES11-19-000

Applicants: Northern Maine Independent Administrator, Inc.

Description: Pro Forma Financial Statements of the Northern Maine Independent Administrator, Inc.

Filed Date: 03/03/2011.

Accession Number: 20110303-5143.

Comment Date: 5 p.m. Eastern Time on Monday, March 14, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: March 4, 2011.
Nathaniel J. Davis, Sr.,
Deputy Secretary.

[FR Doc. 2011-5587 Filed 3-10-11; 8:45 am]

BILLING CODE 6717-01-P